DEPARTMENT OF DEFENSE

Defense Acquisition Regulations System

48 CFR Parts 205 and 225

[Docket DARS-2023-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective December 22, 2023.

FOR FURTHER INFORMATION CONTACT: Ms. Jennifer D. Johnson, Defense Acquisition Regulations System, telephone 703-717-8226.

SUPPLEMENTARY INFORMATION: This final rule amends the DFARS to make needed editorial changes to update the references to the Governmentwide point of entry (https://www.sam.gov) at DFARS 205.205-70, 205.301, 225.7003-3 and 225.7018-4.

List of Subjects in 48 CFR Parts 205 and 225

Government procurement.

Jennifer D. Johnson,
Editor/Publisher, Defense Acquisition Regulations System.

Therefore, 48 CFR parts 205 and 225 are amended as follows:

1. The authority citation for 48 CFR parts 205 and 225 continues to read as follows:

Authority: 41 U.S.C. 1303 and 48 CFR chapter 1.

PART 205—PUBLICIZING CONTRACT ACTIONS

205.205-70 [Amended]

2. Amend section 205.205-70 in paragraph (a) by removing “FedBizOpps.gov (or any successor site)” and adding “the Governmentwide point of entry (https://www.sam.gov)” in its place.

205.301 [Amended]

3. Amend section 205.301 in paragraph (S-70)(i) by removing “GPE” and adding “Governmentwide point of entry (https://www.sam.gov)” in its place.

PART 225—FOREIGN ACQUISITION

4. Amend section 225.7003-3 by revising paragraph (b)(5)(ii)(A)(1) to read as follows:

225.7003-3 Exceptions.

* * * * *

(b) * * *

(5) * * *

(ii) * * *

(A) * * *

(1) Publish a notice in the Governmentwide point of entry (GPE) (https://www.sam.gov) of the intent to make the domestic nonavailability determination; and

* * * * *

5. Amend section 225.7018-4 by revising paragraph (b)(1)(i) to read as follows:

225.7018-4 Nonavailability determination.

* * * * *

(b) * * *

(1) * * *

(i) Publish a notice in the GPE (https://www.sam.gov) of the intent to make the nonavailability determination; and

* * * * *

[FR Doc. 2023-27940 Filed 12-21-23; 8:45 am]

BILLING CODE 6001-FR-P